DEPARTMENT OF EDUCATION

[Catalog of Federal Domestic Assistance (CFDA) Number: 84.328M]

Reopening; Applications for New Awards; Training and Information for Parents of Children With Disabilities—Parent Training and Information Centers

AGENCY: Office of Special Education and Rehabilitative Services, Department of Education.

ACTION: Notice.

SUMMARY: On December 11, 2014, we published in the Federal Register (79 FR 73557) a notice inviting applications for the FY 2015 Parent Training and Information Centers competition (NIA). The notice established a deadline date of February 9, 2015, for the transmittal of applications. This notice reopens the competition for five days.

DATES:

Deadline for Transmittal of Applications: March 30, 2015.

Deadline for Intergovernmental Review: May 29, 2015.

SUPPLEMENTARY INFORMATION: A significant number of applications received in response to the NIA were not eligible because the applicants did not follow the formatting or deadline requirements in the NIA. Consequently, we did not receive eligible applications for a number of States. Therefore, we are reopening the competition to allow applicants to submit or resubmit applications that meet the requirements in the NIA, in order to ensure that parents in all States can be served by a Parent Training and Information Center.

Applicants that have already submitted applications under the FY 2015 Parent Training and Information Centers competition are encouraged to review their applications and determine whether they have met all eligibility requirements, including formatting requirements and the deadline for submission, in the NIA and the application package, which is available at http://www2.ed.gov/programs/oseppic/applicant.html.

Note that the NIA requires double spacing (no more than three lines per vertical inch) for all text in the application narrative, including titles, headings, footnotes, quotations, reference citations, and captions, as well as all text in charts, tables, figures, graphs, and screen shots.

Applicants may review a recorded Webinar that discusses the application requirements at http://tadnet.adobeconnect.com/p763v5dg8fm/.

As stated above, applicants may resubmit applications that may not have met all formatting requirements. Applicants that already submitted timely applications that meet all of the formatting requirements do not have to resubmit their applications. If a new application is not submitted, the Department will use the application that was submitted before the February 9, 2015, 4:30 p.m. EST deadline.

Note: Applications that did not meet the February deadline must be resubmitted to be considered for review.

Note to Applicants: The notice published on December 11, 2014, provides other information that applies to this competition. Specifically, the priority in that notice, entitled “Parent Training and Information Centers,” identifies the requirements for applications submitted in response to this notice, including the eligible entities, the States from which we are accepting applications, and the instructions for submitting applications.

FOR FURTHER INFORMATION CONTACT: Carmen Sanchez, U.S. Department of Education, 400 Maryland Avenue SW., Room 4057, Potomac Center Plaza (PCP), Washington, DC 20202-2600. Telephone: (202) 245-6595.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 18, 2015.
Sue Swenson,
Acting Assistant Secretary for Special Education and Rehabilitative Services.

[FR Doc. 2015-06744 Filed 3-24-15; 8:45 am]

BILLING CODE 4000-01-P